DEPARTMENT OF TRANSPORTATION

Federal Aviation Administration

Tenth Meeting: Joint RTCA Special Committee 213: EUROCAE WG-79: Enhanced Flight Vision Systems/Synthetic Vision Systems (EFVS/SVS)

AGENCY: Federal Aviation Administration (FAA), DOT.

ACTION: Notice of Joint RTCA Special Committee 213: EUROCAE WG-79: Enhanced Flight Vision Systems/Synthetic Vision Systems (EFVS/SVS).

SUMMARY: The FAA is issuing this notice to advise the public of a meeting of Joint RTCA Special Committee 213: EUROCAE WG-79: Enhanced Flight Vision Systems/Synthetic Vision Systems (EFVS/SVS).

DATES: The meeting will be held July 27-29, 2010 from 8:30 a.m.-5 p.m. (0830-1700).

ADDRESSES: The meeting will be held at the Cedar Rapids Marriott Hotel 1200 Collins Road Northeast, Cedar Rapids, Iowa 52402, Phone: (319) 393-6600. Objectives: Plenary approval DO-315A (MASPS for EFVS approach and landing). Preparation of draft DO-315B for Final Review and Comment (FRAC).

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Joint RTCA Special Committee 213: EUROCAE WG-79: Enhanced Flight Vision Systems/Synthetic Vision Systems (EFVS/SVS) meeting. The agenda will include:

Tuesday, 27 July

• Plenary discussion (sign-in at 0830).

• Introductions and administrative items.

• Review and approve minutes from last full plenary meeting.

• Approve DO-315A final version.

• Review DO-315B performance objectives.

Wednesday, 28 July

• Work Group 1 (SVS) and 2 (EFVS) Discussion (0830-1700, including breaks and lunch).

Thursday, 29 July

• Plenary discussion (0830-1500, including breaks and lunch).

• Approve DO-315B draft for FRAC release.

• Administrative items (meeting schedule).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 28, 2010.
Francisco Estrada C.,
RTCA Advisory Committee.

[FR Doc. 2010-16258 Filed 7-2-10; 8:45 am]

BILLING CODE 4910-13-P